DEPARTMENT OF COMMERCE

International Trade Administration

[A-570-898]

Chlorinated Isocyanurates From the People's Republic of China: Notice of Extension of Time Limit for the Final Results of the Antidumping Duty Administrative Review

AGENCY: Import Administration, International Trade Administration, Department of Commerce.

DATES: Effective Date: November 12, 2009.

FOR FURTHER INFORMATION CONTACT: Brandon Petelin or Charles Riggle, AD/CVD Operations, Office 8, Import Administration, International Trade Administration, U.S. Department of Commerce, 14th Street and Constitution Avenue, NW., Washington, DC 20230; telephone: (202) 482-8173 or (202) 482-0650, respectively.

SUPPLEMENTARY INFORMATION:

Background

On June 8, 2009, the Department of Commerce (“Department”) published the preliminary results of the administrative review of the antidumping duty order on chlorinated isocyanurates from the People's Republic of China (“PRC”). See Chlorinated Isocyanurates from the People's Republic of China: Preliminary Results of Administrative Review, 74 FR 27104 (June 8, 2009). This review covers the period June 1, 2007, through May 31, 2008. The final results of review are currently due no later than November 5, 2009.

Extension of Time Limit for Final Results of Review

Pursuant to section 751(a)(3)(A) of the Tariff Act of 1930, as amended (“the Act”), the Department shall issue the final results of an administrative review within 120 days after the date on which the preliminary results are published. However, if it is not practicable to complete the review within this time period, section 751(a)(3)(A) of the Act permits the Department to extend the time period to a maximum of 180 days.

On October 13, 2009, the Department published a notice extending the time limit for the final results of this administrative review for 30 days until November 5, 2009. See Chlorinated Isocyanurates from the People's Republic of China: Notice of Extension of Time Limit for the Final Results of the Antidumping Duty Administrative Review, 74 FR 52452 (October 13, 2009).

The Department now finds that it is not practicable to complete the final results of the administrative review of chlorinated isocyanurates from the PRC within the current deadline due to complicated by-product and surrogate value issues. We find that additional time is needed to complete these final results. Therefore, in accordance with section 751(a)(3)(A) of the Act, we are extending the time period for issuing the final results of the administrative review by an additional 30 days. This extension makes these final results due 180 days after the date on which the preliminary results were published, i.e., December 5, 2009. However, because December 5, 2009, falls on a weekend, the actual due date will be the first business day following the weekend, i.e., December 7, 2009.

This notice is published in accordance with sections 751(a)(3)(A) and 777(i) of the Act.

Dated: November 5, 2009.
Edward C. Yang,
Acting Deputy Assistant Secretary for Antidumping and Countervailing Duty Operations.

[FR Doc. E9-27202 Filed 11-10-09; 8:45 am]

BILLING CODE 3510-DS-P